FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[August 1, 2011 Thru August 31, 2011]
8/01/2011
20111082 | G | Honeywell International, Inc.; EMS Technologies, Inc.; Honeywell International, Inc.
20111168 | G | Claus Schmidbaur; Reflexite Corporation; Claus Schmidbaur.
8/02/2011
20111090 | G | Providence Equity Partners VI L.P.; Blackboard Inc.; Providence Equity Partners VI L.P.
8/03/2011
20111021 | G | Zodiac Aerospace; PAIG Investments Limited; Zodiac Aerospace.
20111108 | G | Precision Castparts Corp.; Oak Hill Capital Partners II, L.P.; Precision Castparts Corp.
20111145 | G | Dell Inc.; Force 10 Networks, Inc.; Dell Inc.
08/05/2011
20111170 | G | GRD Holding LP; Three Cities Fund III, L.P.; GRD Holding LP.
20111175 | G | IHS Inc.; TCV VI, L.P.; IHS Inc.
20111179 | G | Aetna Inc.; Oak Investment Partners XII, Limited Partnership; Aetna Inc.
20111183 | G | Colam Entreprendre S.A.; Independent Electric Supply, Inc.; Colam Entreprendre S.A.
20111188 | G | Adecco S.A.; Compass Partners European Equity Fund (Bermuda), L.P.; Adecco S.A.
20111189 | G | Vanguard Natural Resources, LLC; Encore Energy Partners LP; Vanguard Natural Resources, LLC.
08/08/2011
20111113 | G | Parthenon Investors III, L.P.; Wells Fargo & Company; Parthenon Investors III, L.P.
08/10/2011
20111031 | G | Wolters Kluwer N.V.; National Registered Agents, Inc.; Wolters Kluwer N.V.
20111106 | G | Piedmont Healthcare, Inc.; Henry Medical Center, Inc.; Piedmont Healthcare, Inc.
20111184 | G | Hechos con Amor S.A. de C.V.; Avomex, Inc.; Hechos con Amor S.A. de C.V.
20111185 | G | Grupo Kuo, S.A.B. de C.V.; Avomex, Inc.; Grupo Kuo, S.A.B. de C.V.
20111186 | G | Randstad Holding nv; SFN Group, Inc.; Randstad Holding nv.
08/11/2011
20111131 | G | Canadian Imperial Bank of Commerce; James and Virginia Stowers; Canadian Imperial Bank of Commerce.
08/12/2011
20111200 | G | Ensign Energy Services Inc.; Rowan Companies, Inc.; Ensign Energy Services Inc.
20111202 | G | Sevin Rosen Fund VIII L.P.; Splunk Inc.; Sevin Rosen Fund VIII L.P.
20111203 | G | Chiron Topco, Inc.; Kinetic Concepts, Inc.; Chiron Topco, Inc.
20111205 | G | Joseph Neubauer; ARAMARK Holdings Corporation; Joseph Neubauer.
20111218 | G | ValueClick, Inc.; Dotomi, Inc.; ValueClick, Inc.
20111223 | G | Insituform Technologies, Inc.; Edward R. Fyfe; Insituform Technologies, Inc.
20111231 | G | Calumet Specialty Products Partners, L.P.; Murphy Oil Corporation; Calumet Specialty Products Partners, L.P.
08/15/2011
20111119 | G | MedQuist Holdings Inc.; MultiModal Technologies, Inc.; MedQuist Holdings Inc.
20111198 | G | GTCR Fund X/A, LP; BServ, Inc.; GTCR Fund X/A, LP.
20111219 | G | Archer Limited; Wexford Partners 10, L.P.; Archer Limited.
20111220 | G | Energy Capital Partners II-A, LP; Acorn Energy, Inc.; Energy Capital Partners II-A, LP.
20111228 | G | J.H. Whitney VII. L.P.; MapleWood Equity Partners, L.P.; J.H. Whitney VII, L.P.
08/17/2011
20111088 | G | Sumitomo Metal Industries, Ltd.; Rail Products Acquisition, LLC; Sumitomo Metal Industries, Ltd.
20111213 | G | Oracle Corporation; InQuira, Inc.; Oracle Corporation.
20111235 | G | Olympus Growth Fund V, L.P.; AEA Investors Small Business Fund LP; Olympus Growth Fund V, L.P.
08/18/2011
20111192 | G | UnitedHealth Group Incorporated; New Mountain Partners II, L.P.; UnitedHealth Group Incorporated.
08/19/2011
20111194 | G | Wells Fargo & Company; 2003 Riverside Capital Appreciation Fund, L.P.; Wells Fargo & Company.
20111233 | G | Vance Street Capital LLC; Churchill Equity and ESOP, L.L.C.; Vance Street Capital LLC.
20111242 | G | Warburg Pincus Private Equity X, L.P.; Credit Suisse Group AG; Warburg Pincus Private Equity X, L.P.
20111243 | G | SPO Partners II, L.P.; Oasis Petroleum Inc.; SPO Partners II, L.P.
20111245 | G | TransDigm Group Incorporated; Graham Partners II, L.P.; TransDigm Group Incorporated.
20111247 | G | Gerald W. Schwartz; JELD-WEN Holding, Inc.; Gerald W. Schwartz.
20111248 | G | TA XI L.P.; Senior Health Holdings, LLC; TA XI L.P.
20111252 | G | Ares Corporate Opportunities Fund III, L.P.; Christine Dockstader; Ares Corporate Opportunities Fund III, L.P.
20111254 | G | Roadrunner Transportation Systems, Inc.; Mason Wells Buyout Fund II, Limited Partnership; Roadrunner Transportation Systems, Inc.
20111255 | G | Aquiline Financial Services Fund L.P.; Fidelity National Financial, Inc.; Aquiline Financial Services Fund L.P.
20111258 | G | SPC Partners IV, L.P.; Johnson & Johnson; SPC Partners IV, L.P.
08/22/2011
20111171 | G | William H. Gates III; Ecolab Inc.; William H. Gates III.
20111197 | G | Summit Partners Private Equity Fund VII-A, L.P.; Water Street Healthcare Partners II, L.P.; Summit Partners Private Equity Fund VII-A, L.P.
20111204 | G | Fresenius Medical Care AG & Co. KGaA; TA x, L.P.; Fresenius Medical Care AG & Co. KGaA.
20111267 | G | GTCR Fund X/A, LP; John F. Neace; GTCR Fund X/A, LP.
08/24/2011
20111237 | G | Gores Capital Partners II, L.P.; OCM Principal Opportunities Fund III, L.P.; Gores Capital Partners H, L.P.
20111238 | G | OCM Principal Opportunities Fund III, L.P.; Gores Capital Partners II, L.P.; OCM Principal Opportunities Fund III, L.P.
20111257 | G | Algonquin Power & Utilities Corp.; Atmos Energy Corporation; Algonquin Power & Utilities Corp.
08/26/2011
20111178 | G | Smith Family Voting Trust; Lochinvar Corporation; Smith Family Voting Trust.
20111190 | G | WPP plc; Global Market Insite, Inc.; WPP plc.
20111196 | G | Bayer AG; Pathway Medical Technologies, Inc.; Bayer AG.
20111215 | G | Riverside Capital Appreciation Fund V, L.P.; VSS Mezzanine Partners, L.P.; Riverside Capital Appreciation Fund V, L.P.
20111259 | G | EPCOR Utilities Inc.; American Water Works Company, Inc.; EPCOR Utilities Inc.
20111262 | G | The Auto Club Group; AAA Auto Club South, Inc.; The Auto Club Group
20111264 | G | HTC Corporation; Beats Electronics, LLC; HTC Corporation.
20111270 | G | Atlantic Power Corporation; Capital Power Income L.P.; Atlantic Power Corporation.
20111271 | G | Capital Power Corporation; Capital Power Income L.P.; Capital Power Corporation.
20111272 | G | Hon Hai Precision Ind. Co. Ltd.; Cisco Systems, Inc.; Hon Hai Precision Ind. Co. Ltd.
20111273 | G | Aqua America, Inc.; American Water Works Company, Inc.; Aqua America, Inc.
20111279 | G | Baird Capital Partners V. LP; The Home Depot, Inc.; Baird Capital Partners V, LP.
20111280 | G | NRG Energy, Inc.; Richard W. Vague; NRG Energy, Inc.
20111281 | G | NIBE Industrier AB (publ.); Emerson Electric Co.; NIBE Industrier AB (publ.).
20111282 | G | Suominen Corporation; Ahlstrom Corporation; Suominen Corporation.
20111284 | G | Clayton, Dubilier & Rice Fund VIII, L.P.; Ingersoll-Rand plc; Clayton, Dubilier & Rice Fund VIII, L.P.
20111286 | G | Cargill, Incorporated; Goldstein Group, Inc.; Cargill, Incorporated.
20111291 | G | MEMC Electronic Materials, Inc.; Fotowatio Renewable Ventures, S.L.; MEMC Electronic Materials, Inc.
20111294 | G | Regency Energy Partners LP; Energy Transfer Equity, L.P.; Regency Energy Partners LP.
20111295 | G | Blount International, Inc.; Genstar Capital Partners III, L.P.; Blount International, Inc.
20111297 | G | Vijay Goradia; Sunoco, Inc.; Vijay Goradia.
20111300 | G | Ecolab Inc.; Nalco Holding Company; Ecolab Inc.
20111306 | G | CI Capital Investors II, L.P.; James P. Banks; CI Capital Investors II, L.P.
20111308 | G | WLR Recovery Fund IV, L.P.; The Governor and Company of the Bank of Ireland; WLR Recovery Fund IV, L.P.
20111309 | G | WLR Recovery Fund V. L.P.; The Governor and Company of the Bank of Ireland; WLR Recovery Fund V, L.P.
08/29/2011
20111056 | G | Berry Plastics Group, Inc.; Rexam PLC; Berry Plastics Group, Inc.
20111217 | G | Ipsos S.A.; Aegis Group plc; Ipsos S.A.
20111246 | G | Windstream Corporation; PAETEC Holding Corp.; Windstream Corporation.
20111299 | G | American International Group, Inc.; AerCap Holdings N.V.; American International Group, Inc.
08/30/2011
20111234 | G | Reyes Holdings, L.L.C.; Jeff A. Braverman; Reyes Holdings, L.L.C.
08/31/2011
20110754 | G | General Electric Company; CVT Holding SAS; General Electric Company
20111256 | G | MidOcean Partners III, L.P.; Global Knowledge, Inc.; MidOcean Partners III, L.P.

FOR FURTHER INFORMATION CONTACT: Renee Chapman, Contact Representative, Federal Trade Commission, Premerger Notification Office, Bureau of Competition, Room H-303, Washington, DC 20580, (202) 326-3100.

By Direction of the Commission.
Donald S. Clark,
Secretary.

[FR Doc. 2011-23292 Filed 9-13-11; 8:45 am]

BILLING CODE 6750-01-M